DEPARTMENT OF ENERGY

Federal Energy Regulatory Commission

[Docket No. RP05-500-000]

Nucor-Yamato Steel Company & Nucor Steel—Arkansas v. CenterPoint Energy Gas Transmission Company; Notice of Complaint

July 7, 2005.

Take notice that on July 6, 2005 Nucor-Yamato Steel Company Inc. and Nucor Steel-Arkansas, a division of Nucor Corporation (collectively Complainants), filed a formal complaint against CenterPoint Energy Gas Transmission Company (CEGT) pursuant to Rule 206 of the Commission's Rules of Practice and Procedure, alleging that CEGT imposed excess contract quantities (ECQ) invalidly without clear or adequate notice that complainants would be subject to such penalties, in violation of Order No. 637 and section 20, General Terms & Conditions, of CEGT's filed Gas Tariff.

Complainants certify that copies of the complaint were served on the contacts for CEGT or listed on the Commission's list of corporate officials.

Any person desiring to intervene or to protest in any of the above proceedings must file in accordance with Rules 211 and 214 of the Commission's Rules of Practice and Procedure (18 CFR 385.211 and § 385.214) on or before 5 p.m., Eastern time on the specified comment date. Anyone filing a motion to intervene or protest must serve a copy of that document on the Complainant. Respondent's answer and all interventions or protests submitted on or before the comment date. The Respondent's answer, motions to intervene, and protests must be served on the Complainants.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on July 26, 2005.

Magalie R. Salas,
Secretary.

[FR Doc. 05-15398 Filed 8-2-05; 8:45 am]

BILLING CODE 6717-01-P